OFFICE OF PERSONNEL MANAGEMENT

Privacy Act of 1974: New System of Records

AGENCY: U.S. Office of Personnel Management (OPM).

ACTION: Notice of a new system of records.

SUMMARY: The Office of Personnel Management is proposing to add a new system of records to its inventory of record systems subject to the Privacy Act of 1974 (5 U.S.C. 552a), as amended. This action is necessary to meet the requirements of the Privacy Act to publish in the Federal Register notice of the existence and character of records maintained by the agency (5 U.S.C. 552a(e)(4)). The Investigative Training Records (Internal 19) system of records has been operational since June 2005 without incident. Previously, OPM has relied on preexisting Privacy Act system of records notices for the collection and maintenance of these records. In an effort to increase transparency, OPM is publishing a separate notice for this system.

DATES: This addition will be effective without further notice forty (40) calendar days from the date of this publication, unless we receive comments that result in a contrary determination.

ADDRESSES: Send written comments to the Program Manager for the Freedom of Information and Privacy Act Office, Federal Investigative Services, U.S. Office of Personnel Management, 1137 Branchton Road, P.O. Box 618, Boyers, Pennsylvania 16018.

FOR FURTHER INFORMATION CONTACT: Program Manager, Freedom of Information and Privacy Act office, FISSORNComments@opm.gov.

SUPPLEMENTARY INFORMATION: In accordance with the Privacy Act of 1974, 5 U.S.C. 552a, the Office of Personnel Management Federal Investigative Services (OPM-FIS) proposes to establish a new system of records titled Investigative Training Records (Internal 19). This system of records allows OPM-FIS to document training given to OPM employees, contractors, and other Federal employees and contractors by, through, or in conjunction with the FIS National Training Center (NTC), including records on those who register for training, but do not attend. It will provide OPM with a means to track the training that is provided; the expenditure of training and related funds; identify training needs and trends; assess the effectiveness of training; schedule classes and instructors; determine individual qualifications for appointment or promotion in the Federal service as applicable; and respond to requests for information related to the training offered by or through FIS.

U.S. Office of Personnel Management.
Katherine Archuleta,
Director.

Office of Personnel Management

OPM/Internal-19

System name:

Investigative Training Records.

System Location:

United States Office of Personnel Management, Federal Investigative Services, (OPM FIS) 131 Rebecca Lane, Slippery Rock, PA 16057.

OPM FIS 1050 Hull Street, Baltimore, MD 21230.

Categories of individuals covered by the system:

Current and former employees of OPM, contractors, and employees of other Federal agencies who have applied for, participated in, or assisted with a training program or course offered by, through, or in conjunction with the Federal Investigative Services National Training Center (FIS-NTC).

Current and former employees of OPM FIS that have applied for tuition reimbursement.

Categories of records in the system:

The records in this system may contain the following pertaining to training: Individual's name; date of birth; social security number; address; phone number; email address; occupation, including employing agency/company and supervisor's name and contact information; location, dates and name of training class; schedules; course rosters; sign in sheets and records of attendance; requests for training and/or registration forms; payment records; records of equipment issuance; exercises, study aids, reference tools, assessments, examination and testing material, including pre-course material, if applicable; grades and student evaluations, course critiques; requests for tuition reimbursement and supporting documentation; and other reports pertaining to training. This would also include any and all materials described above that may also be contained within the FIS Professional Development Portal.

Note: Some of these records may also become part of the GOVT 1, General Personnel Records system and/or GOVT 2, Employee Performance File System Records system.

Authority for maintenance of the system:

Federal Records Act, 44 U.S.C. 3101; 5 U.S.C. 301; 5 U.S.C. Ch. 41; E.O. 13467; E.O. 13488, E.O. 11348, as amended; E.O. 9397, as amended by 13478.

Purpose(s):

This system will document training given to current and former employees of OPM, contractors, and employees of other Federal agencies who have applied for, participated in, or assisted with a training program or course offered by, through, or in conjunction with the Federal Investigative Services National Training Center (FIS-NTC), including records on those who register for training, but do not attend. It will provide OPM with a means to track the training that is provided; the expenditure of training and related funds; identify training needs and trends; assess the effectiveness of training; schedule classes and instructors; determine individual qualifications for appointment or promotion in the Federal service as applicable; and respond to requests for information related to the training offered by or through OPM FIS.

Routine uses of records maintained in the system, including categories of users and the purposes of such uses:

In addition to those disclosures generally permitted under 5 U.S.C. 552a(b) of the Privacy Act, all or a portion of the records or information contained in this system may be disclosed to outside entities, as is determined to be relevant and necessary, outside OPM as a routine use pursuant to 5 U.S.C. 552a(b)(3).

1. To disclose information to another Federal agency, to a court, or a party in litigation before a court or in an administrative proceeding being conducted by a Federal agency. In those instances where the request comes from a person or entity other than the Government, records will be disclosed only pursuant to a subpoena executed by a judge.

2. To the appropriate Federal, state, local, tribal, foreign, or other public authority responsible for investigating, prosecuting, enforcing, or implementing a statute, rule, regulation, or order, where OPM becomes aware of an indication of a violation or potential violation of civil or criminal law or regulation.

3. To disclose information to a Federal agency, in response to its request in connection with the hiring or retention of an employee, the issuance of a security clearance, the conducting of a suitability or security investigation of an individual, the classifying of jobs, the letting of a contract, or the issuance of a license, grant, or other benefit by the requesting agency, to the extent that the information is relevant and necessary to the requesting agency's decision on the matter.

4. To provide information to a congressional office from the record of an individual in response to an inquiry from the congressional office made at the request of that individual. However, the training records, or parts thereof, will only be released to a congressional office if OPM receives a notarized authorization or signed statement under 28 U.S.C. 1746 from the subject of the investigation.

5. For National Archives and Records Administration—To disclose information to the National Archives and Records Administration for use in records management inspections.

6. To disclose information to the Department of Justice or in a proceeding before a court, adjudicative body, or other administrative body before which OPM is authorized to appear, when:

(a) OPM, or any component thereof; or

(b) Any employee of OPM in his or her official capacity; or

(c) Any employee of OPM in his or her individual capacity where the Department of Justice or OPM has agreed to represent the employee; or

(d) The United States, when OPM determines that litigation is likely to affect OPM or any of its components; is a party to litigation or has an interest in such litigation, and the use of such records by the Department of Justice or OPM is deemed by OPM to be relevant and necessary to the litigation provided, however, that the disclosure is compatible with the purpose for which records were collected.

7. For the Merit Systems Protection Board—To disclose information to officials of the Merit Systems Protection Board or the Office of the Special Counsel, when requested in connection with appeals, special studies of the civil service and other merit systems, review of OPM rules and regulations, investigations of alleged or possible prohibited personnel practices, and such other functions, e.g., as promulgated in 5 U.S.C. 1205 and 1206, or as may be authorized by law.

8. For the Equal Employment Opportunity Commission—To disclose information to the Equal Employment Opportunity Commission when requested in connection with investigations into alleged or possible discrimination practices in the Federal sector, compliance by Federal agencies with the Uniform Guidelines on Employee Selection Procedures or other functions vested in the Commission and to otherwise ensure compliance with the provisions of 5 U.S.C. 7201.

9. For the Federal Labor Relations Authority—To disclose information to the Federal Labor Relations Authority or its General Counsel when requested in connection with investigations of allegations of unfair labor practices or matters before the Federal Service Impasses Panel.

10. Within OPM for Statistical/Analytical Studies—By OPM in the production of summary descriptive statistics and analytical studies in support of the function for which the records are collected and maintained, or for related workforce studies. While published studies do not contain individual identifiers, in some instances the selection of elements of data included in the study may be structured in such a way as to make the data individually identifiable by inference.

11. For Non-Federal Personnel-To disclose information to contractors, grantees, or volunteers performing or working on a contract, service, grant, cooperative agreement, or job for the Federal Government who have a need to know the information contained in this system.

12. To appropriate agencies, entities, and persons when (1) OPM suspects or has confirmed that the security or confidentiality of the information in a system of records has been compromised; (2) OPM has determined that as a result of the suspected or confirmed compromise there is a risk of harm to economic or property interests, identity theft or fraud, or harm to the security or integrity of this system or other systems or programs (whether maintained by OPM or another agency or entity) that rely on the compromised information; and (3) the disclosure made to such agencies, entities, and persons is reasonably necessary to assist in connection with the OPM's efforts to respond to the suspected or confirmed compromise and prevent, minimize, or remedy such harm.

13. To educational institutions or training facilities for purposes of enrollment and verification of attendance and performance.

14. To employers to the extent necessary to obtain information pertinent to the individual's fitness and qualification for training and to provide training status.

Disclosure to consumer reporting agencies:

None.

Policies and practice for storing, retrieving, accessing, retaining and disposing of records in the system:

Storage:

Records in this system are stored electronically or on paper in secure facilities in locked cabinets. The records are stored on computer tapes, as digital images, on CD-ROM and in electronic databases.

Retrievability:

Records are retrieved by the name, social security number and/or other unique identifier of the individual on whom they are maintained.

Safeguards:

Paper files are stored in a locked cabinet in a secure facility with an intrusion alarm system. Electronic records are on a secure OPM server in a limited access room. Access to the records is limited to those individuals who have a need to know the information in the performance of their official duties.

Retention and disposal:

Individual training records will be maintained indefinitely until a retention schedule is approved by NARA.

System manager(s) and address:

Associate Director, Federal Investigative Services, U.S. Office of Personnel Management, PO Box 618, 1137 Branchton Road, Boyers, PA 16018.

Notification and record access procedure:

Specific materials in this system have been exempted from Privacy Act provisions at 5 U.S.C. 552a(c)(3) and (d), regarding accounting of disclosures, and access to and amendment of records. The section of this notice titled Systems Exempted from Certain Provisions of the Act indicates the kinds of material exempted and the reasons for exempting them from access.

Individuals wishing to learn whether this system contains information about them or to request access should contact the FOI/PA, U.S. Office of Personnel Management, Federal Investigative Services, P.O. Box 618, 1137 Branchton Road, Boyers, PA 16018-0618, in writing. Written requests must contain the following information:

a. Full name, former name, and any other names used.

b. Date and place of birth.

c. Social Security Number.

d. Any available information regarding the type of record involved to include the date of training.

e. The address to which the record information should be sent.

f. You must sign your request.

In addition, the requester must provide an original notarized statement or an unsworn declaration in accordance with 28 U.S.C. 1746, in the following format: I declare (or certify, verify, or state) under penalty of perjury that the foregoing is true and correct. Executed on (date). (Signature).

Attorneys or other persons acting on behalf of an individual must provide written authorization from that individual for the representative to act on their behalf. The written authorization must also include an original notarized statement or an unsworn declaration in accordance with 28 U.S.C. 1746, in the following format: I declare (or certify, verify, or state) under penalty of perjury that the foregoing is true and correct. Executed on (date). (Signature).

Individuals requesting access must also comply with OPM's Privacy Act regulations regarding verification of identity and access to records (5 CFR part 297).

Amendment procedures:

Individuals wishing to request amendment to their non-exempt records should contact the Federal Investigations Processing Center in writing. Requests should be directed only to the U.S. OPM Federal Investigative Services. Individuals must furnish the following information for their records to be located and identified:

a. Full name, former name, and any other names used.

b. Date and place of birth.

c. Social Security Number.

d. Any available information regarding the type of record involved to include the date of the training.

e. The address to which the record information should be sent.

f. You must sign your request

In addition, the requester must provide an original notarized statement or an unsworn declaration in accordance with 28 U.S.C. 1746, in the following format: I declare (or certify, verify, or state) under penalty of perjury that the foregoing is true and correct. Executed on (date). (Signature).

Attorneys or other persons acting on behalf of an individual must provide written authorization from that individual for the representative to act on their behalf. The written authorization must also include an original notarized statement or an unsworn declaration in accordance with 28 U.S.C. 1746, in the following format: I declare (or certify, verify, or state) under penalty of perjury that the foregoing is true and correct. Executed on (date). (Signature).

Individuals requesting amendment must also comply with OPM's Privacy Act regulations regarding verification of identity and amendment of records (5 CFR part 297).

Record source categories:

Information originates within OPM, from the individual to whom the record pertains, and external educational institutions and training facilities.

Systems exempted from certain provisions of the act:

OPM has claimed that all information in these records that meets the criteria stated in 5 U.S.C. 552a(k) (6) is exempt from the requirements of the Privacy Act that relate to providing an accounting of disclosures to the data subject, and access to and amendment of records (5 U.S.C. 552a(c)(3) and (d)).

This system may contain the following types of information:

Testing and examination materials that are used solely to determine individual qualifications for appointment or promotion in the Federal service, when disclosure of the material would compromise the objectivity or fairness of the testing or examination process.

[FR Doc. 2014-02984 Filed 2-11-14; 8:45 am]

BILLING CODE 6325-53-P